DEPARTMENT OF TRANSPORTATION

Federal Highway Administration

Environmental Impact Statement; Henry County, Virginia

AGENCY: U.S. Department of Transportation, Federal Highway Administration.

ACTION: Notice of Intent to prepare an environmental impact statement.

SUMMARY: The U.S. Department of Transportation, Federal Highway Administration (FHWA), in coordination with the Virginia Department of Transportation (VDOT), is issuing this notice of intent to advise the public, agencies, and stakeholders that an Environmental Impact Statement (EIS) will be prepared to study the effects of a highway project under consideration along the Route 220 corridor in Henry County, Virginia.

DATES: To ensure that a full range of issues related to the study are addressed and all potential issues are identified, comments and suggestions are invited from all interested parties. Comments and suggestions concerning the range of issues to be evaluated in the EIS should be submitted to FHWA at the address below within 30 days of the issuance of this notice to ensure timely consideration.

FOR FURTHER INFORMATION CONTACT: Mr. Mack Frost, Planning and Environment Specialist, Federal Highway Administration, 400 North 8th Street, Suite 750, Richmond, VA 23219-4825; email: Mack.Frost@dot.gov; (804)-775-3352.

SUPPLEMENTARY INFORMATION: The environmental review of transportation improvement alternatives for the Route 220 corridor will be conducted in accordance with the requirements of the National Environmental Policy Act (NEPA) of 1969, as amended (42 U.S.C. 4321, et seq.), 23 U.S.C. 139, Council on Environmental Quality (CEQ) regulations implementing NEPA (40 CFR 1500-1508), FHWA regulations implementing NEPA (23 CFR 771.101-771.139) and all applicable Federal, State, and local governmental laws and regulations.

1. Description of the Proposed Action: The EIS will evaluate the environmental effects from reasonable project alternatives and determine the potential for significant impacts to social, economic, natural or physical environmental resources associated with these alternatives.

2. Description of Study Area: A study area large enough to incorporate detailed studies for a full range of reasonable alternatives to be considered for the project will be evaluated. The study area is anticipated to generally encompass a portion of Henry County southeast of the City of Martinsville, roughly following Greensboro Road (U.S. Route 220) from the North Carolina state line until turning northeast along William F. Stone Highway (U.S. Route 58 Bypass) until A.L. Philpott Highway (U.S. Route 58). The specific geographic limits of the study area will be informed during scoping and defined through the course of the study.

3. Scoping and Public Review Process: VDOT, in coordination with FHWA, will solicit public and agency comments through this notice as well as public scoping meetings on the proposed action. The locations, dates, and times for each meeting will be publicized through the VDOT website (http://www.virginiadot.org/projects/salem/default.asp) and in newspapers with local and regional circulation, including the Roanoke Times and the Martinsville Bulletin. Scoping materials will be available at the meetings and oral and written comments will be solicited. Comments may also be sent to the address above.

Notification of the draft EIS for public and agency review will be made in the Federal Register and using other methods to be jointly determined by FHWA and VDOT. Those methods will identify where interested parties can go to review a copy of the draft EIS.

For the draft EIS, public hearings will be held and a minimum 45-day comment period will be provided. The hearings will be conducted by VDOT and announced a minimum of 15 days in advance of the meetings. VDOT will provide information for the public hearings, including the locations, dates, and times for each meeting through a variety of means including the VDOT website (http://www.virginiadot.org/projects/salem/default.asp) and by newspaper advertisement.

4. Additional Review and Consultation: The EIS will comply with other Federal and State requirements including, but not limited to: Section 404 of the Clean Water Act of 1972, the State water quality certification under Section 401 of the Clean Water Act of 1972; protection of endangered and threatened species under Section 7 of the Endangered Species Act; consideration of cultural resources under Section 106 of the National Historic Preservation Act; protection of water quality under the Virginia/National Pollutant Discharge Elimination System; and consideration of minority and low income populations under Executive Order 12898; 23 U.S.C. 315; 49 CFR 1.48; 33 CFR part 325.

(Catalog of Federal Domestic Assistance Program Number 20.205, Highway Planning and Construction. The regulations implementing Executive Order 12372 regarding intergovernmental consultation on Federal programs and activities apply to this program.)

Issued on: February 13, 2018.
Mack Frost Jr.,
Environmental Specialist, Federal Highway Administration, Richmond, Virginia.

[FR Doc. 2018-03597 Filed 2-21-18; 8:45 am]

BILLING CODE 4910-22-P